DEPARTMENT OF TRANSPORTATION

Federal Aviation Administration

14 CFR Part 71

[Airspace Docket No. 00-AWP-11]

Revision to the Legal Description of the Laughlin/Bullhead International Airport Class D Airspace Area, AZ

AGENCY: Federal Aviation Administration (FAA) DOT.

ACTION: Final rule.

SUMMARY: This action revises the legal description of the Laughlin/Bullhead International Airport Class D airspace area, AZ, by including that airspace within a 4.2-mile radius of the Laughlin/Bullhead International Airport west of a line 1.8-miles west of and parallel to the north/south runway.

EFFECTIVE DATE: January 25, 2001.

FOR FURTHER INFORMATION CONTACT: Richard V. Coffin Jr., Airspace Specialist, Airspace Branch, AWP-520.9, Air Traffic Division, Western-Pacific Region, Federal Aviation Administration, 15000 Aviation Boulevard, Lawndale, California 90261, telephone (301) 725-6533.

SUPPLEMENTARY INFORMATION:

History

The Airspace Branch in the Western-Pacific Region received a request from the Laughlin/Bullhead International Airport air traffic control tower manager to include the airspace west of the airport beyond 1.8 miles of the north/south runway and within a 4.2 mile radius of the airport.

Class D airspace areas are published in Paragraph 5000 of FAA Order 7400.9H, Airspace Designations and Reporting Points, dated September 1, 2000, and effective September 16, 2000, through September 15, 2001, which is incorporated by reference in 14 CFR 71.1. The Class D airspace designation listed in this document will be published subsequently in the Order.

The Rule

This amendment to 14 CFR part 71 of the Federal Aviation Regulations revises the legal description of the Laughlin/Bullhead International Airport Class D airspace area, AZ, by including that airspace within a 4.2-mile radius of the Laughlin/Bullhead International Airport west of a line 1.8 miles west of and parallel to the north/south runway. This action will change the actual dimensions, configuration, or operating requirements of the Laughlin/Bullhead International Airport Class D airspace area, AZ.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D AND CLASS E AIRPSACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 Class D Airspace

* * * * *

AWP AZ D Bullhead City, AZ [Revised]

Laughlin/Bullhead International Airport, AZ

(Lat. 35°09′ 27″N, Long. 114°33′ 34″W)

That airspace extending upward from the surface to and including 3,200 feet MSL within a 4.2-mile radius of the Laughlin/Bullhead International Airport. This Class D airspace area is effective during the specific dates and times established in advance by a Notice to Airmen. The effective date and time will thereafter be continuously published in the Airport/Facility Directory.

* * * * *

Issued in Los Angeles, California, on November 21, 2000.
John Clancy,
Manager, Air Traffic Division, Western-Pacific Region.

[FR Doc. 00-31087 Filed 12-5-00; 8:45 am]

BILLING CODE 4910-13-M